DEPARTMENT OF HEALTH AND HUMAN SERVICES

National Institutes of Health

Center for Scientific Review; Amended Notice of Meeting

Notice is hereby given of a change in the meeting of the Center for Scientific Review Special Emphasis Panel, July 9, 2004, 10:30 a.m. to July 9, 2004, 2 p.m., Melrose Hotel, 2430 Pennsylvania Ave., NW., Washington, DC 20037 which was published in the Federal Register on June 23, 2004, 69 FR 35050-35053.

The meeting will be held at The River Inn, 924 25th Street, NW., Washington, DC 20037. The meeting date and time remain the same. The meeting is closed to the public.

Dated: June 29, 2004.
LaVerne Y. Stringfield,
Director, Office of Federal Advisory Committee Policy.

[FR Doc. 04-15465 Filed 7-7-04; 8:45 am]

BILLING CODE 4140-01-M